DEPARTMENT OF EDUCATION

34 CFR Part 300

RIN 1820-AB56

National Instructional Materials Accessibility Standard

AGENCY: Office of Special Education and Rehabilitative Services, Department of Education.

ACTION: Notice of proposed rulemaking.

SUMMARY: The Secretary of Education proposes to establish the National Instructional Materials Accessibility Standard (NIMAS or standard) as required under sections 612(a)(23)(A) and 674(e)(4) of the Individuals with Disabilities Education Act, as amended by the Individuals with Disabilities Education Improvement Act of 2004 (Act). The purpose of the NIMAS is to help increase the availability and timely delivery of print instructional materials in accessible formats to blind or other persons with print disabilities in elementary schools and secondary schools.

DATES: We must receive your comments on or before September 12, 2005.

ADDRESSES: Address all comments about this proposed standard to Troy Justesen, Office of Special Education and Rehabilitative Services, U.S. Department of Education, 400 Maryland Avenue, SW., room 5126, Potomac Center Plaza, Washington, DC 20202-2641. If you prefer to send your comments through the Internet, you may address them to us at the U.S. Government Web site: http://www.regulations.gov.

Or you may send your Internet comments to us at the following address: Osersnimascomments@ed.gov.

You must include the term “NIMAS Comments” in the subject line of your electronic message.

Please submit your comments only one time in order to ensure that we do not receive duplicate copies.

FOR FURTHER INFORMATION CONTACT: Troy R. Justesen. Telephone: (202) 245-7468.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding our proposal to adopt the NIMAS and to make your comments as specific as possible. Also, if appropriate, please identify the specific section or subsection of the NIMAS that each of your comments addresses and arrange your comments in the same order as the standard.

We invite you to assist us in complying with the specific requirements of Executive Order 12866 and its overall requirement of reducing regulatory burden that might result from this proposed regulatory action. Please let us know of any further opportunities we should take to reduce potential costs or increase potential benefits in connection with this regulatory action.

Please include the following with your comments: A description of the area of your involvement in special education or regular education, as well as your role, if any, in that area (e.g., parent, teacher, student, state or local administrator, or researcher) or other area (e.g., technology specialist, publisher, or software developer).

During and after the comment period, you may inspect all public comments about the standard in room 5126, Potomac Center Plaza, 550 12th Street, SW., Washington, DC, between the hours of 8:30 a.m. and 4 p.m., Eastern time, Monday through Friday of each week except Federal holidays.

Assistance to Individuals With Disabilities in Reviewing the Comments

On request, we will supply an appropriate aid, such as a reader or print magnifier, to an individual with a disability who needs assistance to review the comments or other documents in the public rulemaking record for this standard. If you want to schedule an appointment for this type of aid, please contact the person listed under FOR FURTHER INFORMATION CONTACT.

Background

States use electronic files from publishers of educational materials to produce accessible versions (e.g., Braille or digital audio) of these materials or contract to have accessible versions produced from these files. Because States have different requirements for these electronic files, however, publishers often experience increased costs for production, and States experience delays and inconsistencies in the materials produced.

To facilitate the provision of accessible, timely, and consistent versions of print textbooks in the United States, the Department of Education funded the National Center on Accessing the General Curriculum (NCAC) at the Center on Applied Special Technologies, Inc. (CAST) to establish technical specifications for a voluntary national instructional materials accessibility standard. Beginning in November 2002, NCAC convened a panel of 43 experts, composed of educators, publishers, technology specialists, and disability groups. The National Institute of Standards and Technology (NIST) also participated on the panel. The panel held three public meetings in January, March, and June 2003, and conducted extensive teleconference and online discussions.

The panel developed, with consensus, a common standard for digital source files that can be used to accurately and reliably produce instructional materials in a variety of alternate formats using the same source file. This standard, known as the National Instructional Materials Accessibility Standard (NIMAS, version 1.0), provides a single, uniform format that can be used for the electronic files associated with instructional materials. The Department announced the establishment of the NIMAS as a voluntary standard on July 27, 2004. Additional information on the standard and the expert panel's report is available at http://nimas.cast.org/about/index.html. s

The purpose of the NIMAS is to help increase the availability and timely delivery of print instructional materials in accessible formats to blind or other persons with print disabilities in elementary schools and secondary schools. The term print instructional materials is defined in section 674(e)(3)(C) of the Act, and the term blind or other persons with print disabilities is defined in section 674(e)(3)(A) of the Act.

Under section 674(e)(4) of the Act, the NIMAS applies to print instructional materials published after the date on which the final rule establishing the NIMAS is published in the Federal Register. This notice proposes to establish the NIMAS and would amend 34 CFR part 300 for purposes of complying with section 674(e)(4) of the Act. A separate rulemaking proceeding will be conducted to require States to adopt the standard. In this separate notice, the Secretary will propose other amendments to 34 CFR part 300, which will contain information and seek public comment on the requirement for States to adopt the NIMAS in a timely manner after it has been established by the Department, as set forth in section 612(a)(23)(A) of the Act.

Significant Proposed Regulation

We propose to establish the NIMAS in our regulations by adding an appendix to 34 CFR part 300 that will set forth the technical elements and specifications for the standard. The proposed appendix is included at the end of this notice.

Executive Order 12866

Potential Costs and Benefits

Under Executive Order 12866, we have assessed the potential costs and benefits of this regulatory action.

The potential costs associated with the proposed standard are those resulting from statutory requirements and those we have determined to be necessary for administering this program effectively and efficiently.

In assessing the potential costs and benefits—both quantitative and qualitative—of this regulatory action, we have determined that the benefits would justify the costs.

We have also determined that this regulatory action would not unduly interfere with State, local, and tribal governments in the exercise of their governmental functions.

Summary of Potential Costs and Benefits

The National Instructional Materials Accessibility Standard (NIMAS) applies to print instructional materials required by State or local educational agencies (LEAs) for classroom use. Publishers, State and local educational agencies, authorized conversion entities, and students potentially will be affected by NIMAS.

The adoption of the NIMAS is expected to provide long-term cost savings for publishers of educational materials. Currently, 26 States have laws requiring publishers to provide State or local educational agencies with electronic files suitable for converting print instructional materials into Braille versions. Depending on what requirements each State has enacted, publishers may be required to produce a conversion file in as many as 6 different file formats. This process wastes time and effort on the part of publishers and is unnecessarily costly. Adoption of the NIMAS means that publishers won't have to convert their materials to several different file formats.

The NIMAS will supersede the different standards for source files currently used by some State and local educational agencies to produce accessible versions of textbooks. However, unless States and LEAs currently use electronic source files to produce their own accessible versions of textbooks, this will not result in any additional cost to these agencies beyond that associated with publishing new State rules, as needed, to implement the NIMAS. In most cases, States and LEAs currently contract with third party providers to take the electronic source files and convert them into accessible formats such as Braille, digital text, and digital audio. These third party providers may encounter some cost in adapting to the use of the NIMAS files, but this will be more than offset by the savings realized from only having to work with one format instead of multiple formats. In addition, these entities will not need to spend exorbitant amounts of time manipulating different types of files in order to convert them into accessible formats. Working with only one format is also a benefit for publishers of textbooks and will result in cost savings for these entities. Any cost to States and LEAs in moving to NIMAS should be offset by the increased speed in which they receive files and improved consistency and quality of the files received.

The adoption of NIMAS is expected to be highly valuable to students who are blind or who have print disabilities because they will have access to accessible versions of textbooks in a timely manner. Current methods of converting print textbooks into Braille and other specialized formats are complex and time consuming, and the process can take months to complete. In many cases students who are blind or who have print disabilities now receive accessible textbooks and other instructional materials well after the beginning of the instructional period. The adoption of the NIMAS will improve both the speed of the process and the quality and consistency of books converted into specialized formats.

The Act does not require existing textbooks to be converted to NIMAS. There also are no associated costs to prepare special education instructors to use or train others to use this new standard because teachers and other educational staff receive the books in their final accessible format. The method used to produce the book is not visible to the teachers or students, except that use of the universal standard is expected to speed the delivery of the books to the students and improve the quality and consistency of the texts.

Regulatory Flexibility Act Certification

The Secretary certifies that this proposed standard would not have a significant economic impact on a substantial number of small entities. This proposed standard would largely affect States and State agencies or individuals. States and State agencies are not defined as “small entities” in the Regulatory Flexibility Act.

Paperwork Reduction Act of 1995

The proposed standard does not contain any information collection requirements.

Intergovernmental Review

This standard is not subject to Executive Order 12372 and the regulations in 34 CFR part 79.

Federalism

Executive Order 13132 requires us to ensure meaningful and timely input by State and local elected officials in the development of regulatory policies that have federalism implications. “Federalism implications” means substantial direct effects on the States, on the relationship between the National Government and the States, or on the distribution of power and responsibilities among the various levels of government. The proposed standard may have federalism implications, as defined in Executive Order 13132. We encourage State and local elected officials to review and provide comments on this proposed standard.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number does not apply)

List of Subjects in 34 CFR Part 300

National Instructional Materials Accessibility Standard (NIMAS), Special education, Grant programs—accessible instructional materials, Technology.

Dated: June 24, 2005.
John H. Hager,
Assistant Secretary for Special Education and Rehabilitative Services.

For the reasons discussed in the preamble, the Secretary proposes to amend part 300 of title 34 of the Code of Federal Regulations as follows:

PART 300—ASSISTANCE TO STATES FOR THE EDUCATION OF CHILDREN WITH DISABILITIES

1. The authority citation for part 300 continues to read as follows:

Authority: 20 U.S.C. 1411-1420, unless otherwise noted.

2. Appendix D is added to part 300 as follows:

Appendix D—National Instructional Materials Accessibility Standard

Technical Specifications—The Baseline Element Set
Element | Description
a. Document-level tags (required to be valid XML)
dtbook | The root element in the Digital Talking Book DTD. <dtbook> contains metadata in <head> and the contents itself in <book>.
Head | Contains metainformation about the book but no actual content of the book itself, which is placed in <book>. This information is consonant with the <head> information in xhtml, see [XHTML11STRICT]. Other miscellaneous elements can occur before and after the required <title>. By convention <title> should occur first.
book | Surrounds the actual content of the document, which is divided into <frontmatter>, <bodymatter>, and <rearmatter>. <head>, which contains metadata, precedes <book>.
meta | Indicates metadata about the book. It is an empty element that may appear repeatedly only in <head>.
title | Contains the title of the book but is used only as metainformation in <head>. Use <doctitle> within <book> for the actual book title, which will usually be the same.
| Usage Guidelines: please refer to Document Level Tags and Required Tags in Appendix B, ©DAISY Consortium, 2002. http://nimas.cast.org/about/report /index.html#appendixb.
b. Structure and Hierarchy
bodymatter | Consists of the text proper of a book, as contrasted with preliminary material <frontmatter> or supplementary information in <rearmatter>.
rearmatter | Contains supplementary material such as appendices, glossaries, bibliographies, and indices. It follows the <bodymatter> of the book.
level1 | The highest-level container of major divisions of a book. Used in <frontmatter>, <bodymatter>, and <rearmatter> to mark the largest divisions of the book (usually parts or chapters), inside which level2 subdivisions (often sections) may nest. The class attribute identifies the actual name (e.g., part, chapter) of the structure it marks. Contrast with <level>.
level2 | Contains subdivisions that nest within <level1> divisions. The class attribute identifies the actual name (e.g., subpart, chapter, subsection) of the structure it marks.
level3 | Contains sub-subdivisions that nest within <level2> subdivisions (e.g., sub-subsections within subsections). The class attribute identifies the actual name (e.g., section, subpart, subsubsection) of the subordinate structure it marks.
level4 | Contains further subdivisions that nest within <level3> subdivisions. The class attribute identifies the actual name of the subordinate structure it marks.
level5 | Contains further subdivisions that nest within <level4> subdivisions. The class attribute identifies the actual name of the subordinate structure it marks.
level6 | Contains further subdivisions that nest within <level5> subdivisions. The class attribute identifies the actual name of the subordinate structure it marks.
h1 | Contains the text of the heading for a <level1> structure.
h2 | Contains the text of the heading for a <level2> structure.
h3 | Contains the text of the heading for a <level3> structure.
h4 | Contains the text of the heading for a <level4> structure.
h5 | Contains the text of the heading for a <level5> structure.
h6 | Contains the text of the heading for a <level6> structure.
| Usage Guidelines: please refer to the Information Object references in the Structure and Hierarchy section in Appendix B, © DAISY Consortium, 2002.
c. Block Elements
blockquote | Indicates a block of quoted content that is set off from the surrounding text by paragraph breaks. Compare with <q>, which marks short, inline quotations.
list | Contains some form of list, ordered or unordered. The list may have intermixed heading <hd> (generally only one, possibly with <prodnote>) and an intermixture of list items <li> and <pagenum>. If bullets and outline enumerations are part of the print content, they are expected to prefix those list items in content, rather than be implicitly generated.
Li | Marks each list item in a <list>. <li> content may be either inline or block and may include other nested lists. Alternatively it may contain a sequence of list item components, <lic>, that identify regularly occurring content, such as the heading and page number of each entry in a table of contents.
Hd | Marks the text of a heading in a <list> or <sidebar>.
note | Marks a footnote, endnote, etc. Any local reference to <note id=”yyy”> is by <noteref idref=”#yyy”> [Attribute id].
P | Contains a paragraph, which may contain subsidiary <list> or <dl>.
sidebar | Contains information supplementary to the main text and/or narrative flow and is often boxed and printed apart from the main text block on a page. It may have a heading <hd>.
cite | Marks a reference (or citation) to another document.
Dd | Marks a definition of the preceding term <dt> within a definition list <dl>. A definition without a preceding <dt> has no semantic interpretation, but is visually presented aligned with other <dd>.
Dl | Contains a definition list, usually consisting of pairs of terms <dt> and definitions <dd>. Any definition can contain another definition list.
Dt | Marks a term in a definition list <dl> for which a definition <dd> follows.
| Usage Guidelines: please refer to the Information Object references in the Block Elements section in Appendix B, ©DAISY Consortium, 2002.
d. Inline Elements
q | Contains a short, inline quotation. Compare with <blockquote>, which marks a longer quotation set off from the surrounding text.
strong | Marks stronger emphasis than <em>. Visually <strong> is usually rendered bold.
sub | Indicates a subscript character (printed below a character's normal baseline). Can be used recursively and/or intermixed with <sup>.
sup | Marks a superscript character (printed above a character's normal baseline). Can be used recursively and/or intermixed with <sub>.
br | Marks a forced line break.
line | Marks a single logical line of text. Often used in conjunction with <linenum> in documents with numbered lines. [Include in baseline element set. Use only when line breaks must be preserved to capture meaning (e.g., poems, legal texts).]
linenum | Contains a line number, for example in legal text. [Include in baseline element set. Use only when <line> is used, and only for lines numbered in print book.]
pagenum | Contains one page number as it appears from the print document, usually inserted at the point within the file immediately preceding the first item of content on a new page. [NB: Only valid when includes id attribute].
noteref | Marks one or more characters that reference a footnote or endnote <note>. Contrast with <annoref>. <noteref> and <note> are independently skippable.
| Usage Guidelines: please refer to the Information Object references in the Inline Elements section in Appendix B, ©DAISYConsortium, 2002.
e. Tables
table | Contains cells of tabular data arranged in rows and columns. A <table> may have a <caption>. It may have descriptions of the columns in <col>s or groupings of several <col> in <colgroup>. A simple <table> may be made up of just rows <tr>. A long table crossing several pages of the print book should have separate <pagenum> values for each of the pages containing that <table> indicated on the page where it starts. Note the logical order of optional <thead>, optional <tfoot>, then one or more of either <tbody> or just rows <tr>. This order accommodates simple or large, complex tables. The <thead> and <tfoot> information usually helps identify content of the <tbody> rows. For a multiple-page print <table> the <thead> and <tfoot> are repeated on each page, but not redundantly tagged.
td | Indicates a table cell containing data.
tr | Marks one row of a <table> containing <th> or <td> cells.
| Usage Guidelines: please refer to the Information Object references in the Tables section in Appendix B, ©DAISY Consortium, 2002.
f. Images
imggroup | Provides a container for one or more <img> and associated <caption>(s) and <prodnote>(s). A <prodnote> may contain a description of the image. The content model allows: 1) multiple <img> if they share a caption, with the ids of each <img> in the <caption imgref=”id1 id2 ...”>, 2) multiple <caption> if several captions refer to a single <img id=“xxx”> where each caption has the same <caption imgref=“xxx”>, 3) multiple <prodnote> if different versions are needed for different media (e.g., large print, Braille, or print). If several <prodnote> refer to a single <img id=“xxx”>, each prodnote has the same <prodnote imgref=“xxx”>.
caption | Describes a <table> or <img>. If used with <table> it must follow immediately after the <table> start tag. If used with <img> or <imggroup> it is not so constrained.
| Usage Guidelines: please refer to the Information Object references in the Images section in Appendix B, ©DAISY Consortium, 2002.

1. The Optional Elements and Guidelines for Use

Publishers are encouraged to apply markup beyond the baseline (required) elements. The complete DTBook Element Set reflects the tags necessary to create the six types of Digital Talking Books referenced in Section II and Braille output. Because of the present necessity to subdivide the creation of alternate format materials into distinct phases, the Panel determined that baseline elements would be provided by publishers, and optional elements would be added to the NIMAS-compliant files by third party conversion entities. In both circumstances the protocols for tagging the digital files should conform to the ANSI/NISO Z39.86 specification. For this reason, the optional elements beyond the baseline set are included as an Appendix C, and content converters are directed to the DAISY Structure Guidelines (http://www.daisy.org/publications/guidelines/sg-daisy3/structguide.htm) for guidance on their use.

2. Package File

A package file describes a publication. It identifies all other files in the publication and provides descriptive and access information about them. A publication must include a package file conforming to the NIMAS. The package file is based on the Open eBook Publication Structure 1.2 package file specification (For most recent detail please see http://www.openebook.org/oebps/oebps1.2/download/oeb12-xhtml.htm#sec2). A NIMAS package file must be an XML-valid OeB PS 1.2 package file instance and must meet the following additional standards:

The NIMAS Package File must include the following Dublin Core (dc:) metadata:

• dc:Title.

• dc:Creator (if applicable).

• dc:Publisher.

• dc:Date (Date of NIMAS-compliant file creation—yyyy-mm-dd).

• dc:Format (=“NIMAS 1.0”).

• dc:Identifier (a unique identifier for the NIMAS-compliant digital publication, e.g., print ISBN + “-NIMAS”—exact format to be determined).

• dc:Language (one instance, or multiple in the case of a foreign language textbook, etc.).

• dc:Rights (details to be determined).

• dc:Source (ISBN of print version of textbook).

And the following x-metadata items:

• nimas-SourceEdition (the edition of the print textbook).

• nimas-SourceDate (date of publication of the print textbook).

The following metadata were proposed also as a means of facilitating recordkeeping, storage and file retrieval:

• dc:Subject (Lang Arts, Soc Studies, etc.).

• nimas-grade (specific grade level of the print textbook, e.g.; Grade 6).

• nimas gradeRange (specific grade range of the print textbook, e.g.; Grades 4-5).

And additional suggestion references the use of:

• dc:audience:educationLevel (for the grade and gradeRange identifiers, noting that Dublin Core recommends using educationLevel with an appropriate controlled vocabulary for context, and recommends the U.S. Department of Education's Level of Education vocabulary online at http://www.ed.gov/admin/reference/index.jsp. Using educationLevel obviates the need for a separate field for gradeRange since dc elements can repeat more than once. A book used in more than one grade would therefore have two elements, one with value “Grade 4” and another with value “Grade 5.”

A final determination as to which of these specific metadata elements to use needs to be clarified in practice. The package manifest must list all provided files (text, images, etc.). The package spine must reference all text content files in order. (Note: For purposes of continuity and to minimize errors in transformation and processing, the NIMAS-compliant digital text should be provided as a single document.)

[FR Doc. 05-12853 Filed 6-28-05; 8:45 am]

BILLING CODE 4000-01-P